SMALL BUSINESS ADMINISTRATION

Public Federal Regulatory Enforcement Fairness Roundtable; Region VI Regulatory Fairness Board

The Small Business Administration Region VI Regulatory Fairness Board and the SBA Office of the National Ombudsman will hold a Public Roundtable on Tuesday, April 22, 2003, at 8:30 a.m. at the State Chamber at 330 NE., 10th Street, Oklahoma City, OK 73104, to provide small business owners and representatives of trade associations with an opportunity to share information concerning the federal regulatory enforcement and compliance environment.

Anyone wishing to attend or to make a presentation must contact Darla Booker in writing or by fax, in order to be put on the agenda. Darla Booker, U.S. Small Business Administration, Oklahoma District Office, 210 Park Avenue, Suite 1300, Oklahoma City, OK 73102, phone (405) 231-5521 Ext. 243, fax (405) 231-4876, e-mail: Darla.Booker@sba.gov.

For more information, see our Web site at http://www.sba.gov/ombudsman.

Dated: March 31, 2003
Michael L. Barrera,
National Ombudsman.

[FR Doc. 03-8241 Filed 4-3-03; 8:45 am]

BILLING CODE 8025-01-P